DEPARTMENT OF ENERGY

Federal Energy Regulatory Commission

[Project No. 15094-000]

Ohio Power and Light, LLC; Notice of Preliminary Permit Application Accepted for Filing and Soliciting Comments, Motions To Intervene, and Competing Applications

On February19, 2021, Ohio Power and Light, LLC. filed an application for a preliminary permit, pursuant to section 4(f) of the Federal Power Act, proposing to study the feasibility of the Robert C. Byrd Lock and Dam Hydroelectric Project to be located on the Ohio River, near the Town of Gallipolis, in Gallia County, Ohio, and Mason County, West Virginia. The sole purpose of a preliminary permit, if issued, is to grant the permit holder priority to file a license application during the permit term. A preliminary permit does not authorize the permit holder to perform any land-disturbing activities or otherwise enter upon lands or waters owned by others without the owners' express permission.

The proposed project would utilize the impoundment formed by the U.S. Army Corps of Engineers R.C. Byrd Locks and Dam and consist of the following: (1) A new 150-foot-long by 250-foot-wide concrete-walled intake/forebay structure; (2) a new 250-foot-wide by 170-foot-long concrete powerhouse containing four 5.75-megawatt (MW) pit turbine-generators for a total project capacity of 21.1 MW; (3) a new 300-foot-long by 300-foot-wide tailrace; (4) a new 60-foot-long by 60-foot-wide substation; (5) a new 2.41-mile-long, 138-kilovolt transmission line.; and (6) appurtenant facilities. The estimated annual generation of the Robert C. Byrd Lock and Dam Hydroelectric Project would be 165,000 megawatt-hours.

Applicant Contact: Mr. Alan W. Skelly, Ohio Power and Light, LLC., 127 Longwood Boulevard, Mount Orab, Ohio 45154; phone: (937) 802-8866.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15094-000.

More information about this project, including a copy of the application, can be viewed or printed on the “eLibrary” link of Commission's website at http://www.ferc.gov/docs-filing/elibrary.asp. Enter the docket number (P-15094) in the docket number field to access the document. For assistance, contact FERC Online Support.

Dated: March 17, 2021.
Nathaniel J. Davis, Sr.,
Deputy Secretary.

[FR Doc. 2021-05936 Filed 3-22-21; 8:45 am]

BILLING CODE 6717-01-P